DEPARTMENT OF ENERGY

Federal Energy Regulatory Commission

Combined Notice of Filings #1

Take notice that the Commission received the following exempt wholesale generator filings:

Docket Numbers: EG25-521-000.

Applicants: Red Egret LLC.

Description: Red Egret LLC submits Notice of Self-Certification of Exempt Wholesale Generator Status.

Filed Date: 9/11/25.

Accession Number: 20250911-5074.

Comment Date: 5 p.m. ET 10/2/25.

Take notice that the Commission received the following electric rate filings:

Docket Numbers: ER25-3409-000.

Applicants: DesertLink, LLC.

Description: 205(d) Rate Filing: Desertlink-Gridliance West TIA Agreement Filing to be effective 8/11/2025.

Filed Date: 9/10/25.

Accession Number: 20250910-5120.

Comment Date: 5 p.m. ET 10/1/25.

Docket Numbers: ER25-3410-000.

Applicants: Midcontinent Independent System Operator, Inc.

Description: 205(d) Rate Filing: 2025-09-11_SA 4547 Ameren MO-Ameren MO GIA (R1057) to be effective 8/27/2025.

Filed Date: 9/11/25.

Accession Number: 20250911-5019.

Comment Date: 5 p.m. ET 10/2/25.

Docket Numbers: ER25-3411-000.

Applicants: Midcontinent Independent System Operator, Inc.

Description: 205(d) Rate Filing: 2025-09-11_SA 4548 Ameren MO-Ameren MO GIA (R1058) to be effective 8/27/2025.

Filed Date: 9/11/25.

Accession Number: 20250911-5022.

Comment Date: 5 p.m. ET 10/2/25.

Docket Numbers: ER25-3412-000.

Applicants: Midcontinent Independent System Operator, Inc.

Description: 205(d) Rate Filing: 2025-09-11_SA 4554 NIPSCO-Merrillville Solar GIA (S1044) to be effective 8/27/2025.

Filed Date: 9/11/25.

Accession Number: 20250911-5029.

Comment Date: 5 p.m. ET 10/2/25.

Docket Numbers: ER25-3413-000.

Applicants: PJM Interconnection, L.L.C.

Description: 205(d) Rate Filing: Revisions to RAA Regarding Dual Fuel ELCC Classes to be effective 11/11/2025.

Filed Date: 9/11/25.

Accession Number: 20250911-5095.

Comment Date: 5 p.m. ET 10/2/25.

Docket Numbers: ER25-3414-000.

Applicants: National Grid Generation LLC.

Description: 205(d) Rate Filing: Annual Reset of Pension and OPEB Expenses to be effective 1/1/2025.

Filed Date: 9/11/25.

Accession Number: 20250911-5097.

Comment Date: 5 p.m. ET 10/2/25.

Docket Numbers: ER25-3415-000.

Applicants: Transource Missouri, LLC.

Description: 205(d) Rate Filing: TMO-Evergy Missouri West (Mullin Creek 1) Preliminary Development Agreement to be effective 8/12/2025.

Filed Date: 9/11/25.

Accession Number: 20250911-5102.

Comment Date: 5 p.m. ET 10/2/25.

Docket Numbers: ER25-3416-000.

Applicants: Transource Missouri, LLC.

Description: 205(d) Rate Filing: TMO-Evergy Metro (Mullin Creek 2) Preliminary Development Agreement to be effective 8/15/2025.

Filed Date: 9/11/25.

Accession Number: 20250911-5110.

Comment Date: 5 p.m. ET 10/2/25.

Docket Numbers: ER25-3417-000.

Applicants: WS-Sarish LLC.

Description: Initial Rate Filing: Baseline MBR Tariff to be effective 9/12/2025.

Filed Date: 9/11/25.

Accession Number: 20250911-5113.

Comment Date: 5 p.m. ET 10/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 11, 2025
Debbie-Anne A. Reese,
Secretary.

[FR Doc. 2025-17864 Filed 9-15-25; 8:45 am]

BILLING CODE 6717-01-P